DEPARTMENT OF COMMERCE

Foreign-Trade Zones Board

[B-84-2012]

Foreign-Trade Zone 7—Mayaguez, Puerto Rico; Notification of Proposed Production Activity; Pepsi Cola Puerto Rico Distributing, LLC, (Soft Drink and Fruit Drink Beverages), Toa Baja, Puerto Rico

The Puerto Rico Industrial Development Company, grantee of FTZ 7, submitted a notification of proposed production activity on behalf of Pepsi Cola Puerto Rico Distributing, LLC (PCPRD), located in Toa Baja, Puerto Rico. The notification conforming to the requirements of the regulations of the Foreign-Trade Zones Board (15 CFR § 400.22) was received on November 5, 2012.

The PCPRD facility is located at Carretera 865, KM 0.4, in Toa Baja, Puerto Rico. A separate application for subzone status at the PCPRD facility was submitted and will be processed under Section 400.31 of the Board's regulations. The facility is used for the production of bottled and canned soft drink and fruit drink beverages. Production under FTZ procedures could exempt PCPRD from customs duty payments on the foreign status components and materials used in export production. On its domestic sales, PCPRD would be able to choose the duty rate during customs entry procedures that applies to canned and bottled soft drink and fruit drink beverages (duty free) for the foreign status inputs noted below. Customs duties also could possibly be deferred or reduced on foreign status production equipment.

Components and materials sourced from abroad include: fruit nectars (excluding orange juice and grapefruit juice), labels, plastic bottles, and plastic caps for bottles (duty rates range from 3.0 to 5.8%; 2¢/liter). The request indicates that PCPRD will not use foreign-status sugar in the proposed FTZ production activity.

Public comment is invited from interested parties. Submissions shall be addressed to the Board's Executive Secretary at the address below. The closing period for their receipt is January 7, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: November 11, 2012.
Andrew McGilvray,
Executive Secretary.

[FR Doc. 2012-28624 Filed 11-23-12; 8:45 am]

BILLING CODE 3510-DS-P